DEPARTMENT OF THE INTERIOR

Fish and Wildlife Service

50 CFR Part 17

RIN 1080-AI17

Endangered and Threatened Wildlife and Plants; Proposed Rule To List the Columbia Basin Distinct Population Segment of the Pygmy Rabbit (Brachylagus idahoensis) as Endangered

AGENCY: Fish and Wildlife Service, Interior.

ACTION: Proposed rule.

SUMMARY: We, the U.S. Fish and Wildlife Service (Service), propose to list the Columbia Basin distinct population segment of the pygmy rabbit (Brachylagus idahoensis) as endangered pursuant to the Endangered Species Act of 1973, as amended (Act). An emergency rule listing this population segment as endangered for a period of 240 days is published concurrently in this issue of the Federal Register.

Historically, the Columbia Basin pygmy rabbit occurred in dense, shrub steppe habitats in five central Washington counties. Currently, this population segment is known from a single wild colony totaling fewer than 50 individuals in Douglas County, Washington, and a small captive population. Due to its small population, the Columbia Basin pygmy rabbit is imminently threatened by the combined influence of catastrophic environmental events, habitat/resource failure, disease, predation, and loss of genetic heterogeneity. We solicit additional information and data that may assist us in making a final decision on this proposed listing, as well as determining critical habitat for the rabbit.

DATES: Comments from all interested parties must be received by January 29, 2002. Public hearing requests must be received by January 14, 2002.

ADDRESSES: Submit comments to U.S. Fish and Wildlife Service, Upper Columbia Fish and Wildlife Office, 11103 East Montgomery Drive, Spokane, Washington 99206. For information and instruction on commenting, see the PUBLIC COMMENTS SOLICITED section below. Comments and materials received, as well as supporting information used to prepare this proposed rule, will be available for public inspection, by appointment, during normal business hours at the above address.

FOR FURTHER INFORMATION CONTACT: Christopher Warren at the address listed above (telephone 509/891-6839; facsimile 509/891-6748; electronic mail: chris_warren@fws.gov).

SUPPLEMENTARY INFORMATION:

Background

For a discussion of background biological information, previous Federal action, factors affecting the species, critical habitat, and conservation measures available to listed and proposed species, consult the emergency rule to list the Columbia Basin distinct population segment of the pygmy rabbit published concurrently in this issue of the Federal Register.

Peer Review

In accordance with our policy published on July 1, 1994 (59 FR 34270), we will solicit the expert opinions of three appropriate and independent specialists regarding this proposed rule. The purpose of such review is to ensure listing decisions are based on scientifically sound data, assumptions, and analyses. We will send these peer reviewers copies of this proposed rule immediately following publication in the Federal Register. We will invite these peer reviewers to comment, during the public comment period, on the specific assumptions and conclusions regarding the proposed listing and designation of critical habitat.

We will consider all comments and information received during the 60-day comment period on this proposed rule in making a final decision on the proposal. Accordingly, the final determination may differ from this proposal.

Public Hearings

The Act provides for one or more public hearings on this proposal, if requested. Requests for public hearings must be made at least 15 days prior to the close of the public comment period. Such a request for a public hearing for this proposed rule may be sent to the Supervisor, Upper Columbia Fish and Wildlife Office (see ADDDRESES section). We will schedule at least one public hearing on this proposal, if requested, and announce the date, time, and place of any hearings in the Federal Register and local newspapers at least 15 days prior to the first hearing.

Clarity of the Rule

Executive Order 12866 requires each agency to write regulations and notices that are easy to understand. We invite your comments on how to make this proposed rule easier to understand, including answers to questions such as the following—(1) Are the requirements in the proposed rule clearly stated? (2) Does the proposed rule contain technical jargon that interferes with the clarity? (3) Does the format of the proposed rule (grouping and order of the sections, use of headings, paragraphing, etc.) aid or reduce its clarity? (4) Is the description of the proposed rule in the SUPPLEMENTARY INFORMATION section of the preamble helpful in understanding the proposed rule? What else could we do to make this proposed rule easier to understand?

Send a copy of any comments that concern how we could make this rule easier to understand to the office identified in the ADDRESSES section at the beginning of this document.

Public Comments Solicited

We intend that any final listing action resulting from this proposed rule to list the Columbia Basin pygmy rabbit will be as accurate and effective as possible. Therefore, we request comments or suggestions from the general public, other concerned governmental agencies, the scientific community, industry, or any other interested party concerning this proposed rule. Comments are particularly sought concerning:

(1) Biological, commercial trade, or other relevant data regarding any threat (or lack thereof) to the pygmy rabbit, both within the Columbia Basin population area and range-wide;

(2) Information regarding the range, distribution, and population size of this distinct population segment, including the locations of any additional colonies of the Columbia Basin pygmy rabbit;

(3) Information regarding the range, distribution, and population size of the pygmy rabbit range-wide;

(4) Information (e.g., maps, data, unpublished reports) and justification regarding why any habitat should or should not be determined to be critical habitat for the Columbia Basin pygmy rabbit as provided by section 4 of the Act;

(5) Current and planned activities in the subject area and their potential impacts on the Columbia Basin pygmy rabbit.

If you wish to comment, you may submit your comments and materials concerning this proposal by any one of several methods: (1) You may submit written comments and information to the Field Supervisor at the address provided in the ADDRESSES section above; (2) You may comment electronically via the Internet to “fw1cbprabbit@r1.fws.gov”. Please submit e-mail comments as an ASCII file, avoiding the use of special characters and any form of encryption. Please note that the Internet address will be closed at the termination of the public comment period; if you do not receive a confirmation from the system that we have received your e-mail message, contact us directly by calling our Upper Columbia Fish and Wildlife Office at 590/891-6748; and (3) You also may hand-deliver comments to our Upper Columbia Fish and Wildlife Office at 11103 East Montgomery Drive, Spokane, Washington.

Our practice is to make comments, including names and home addresses of respondents, available for public review during regular business hours. Individual respondents may request that we withhold their home address from the rule making record, which we will honor to the extent allowable by law. In some circumstances, we would withhold from the rule making record a respondent's identity, as allowable by law. If you wish us to withhold your name and/or address, you must state this prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at the above address.

National Environmental Policy Act

We have determined that environmental assessments and environmental impact statements, as defined in the National Environmental Policy Act of 1969, need not be prepared in connection with regulations adopted pursuant to section 4(a) of the Endangered Species Act of 1973, as amended. We published a notice outlining our reasons for this determination in the Federal Register on October 25, 1983 (48 FR 49244).

Paperwork Reduction Act

This rule does not contain any new collections of information other than those already approved under the Paperwork Reduction Act and assigned Office of Management and Budget clearance number 1018-0094. An agency may not conduct or sponsor, and a person is not required to respond to, a collection of information unless it displays a currently valid control number. For additional information concerning permit and associated requirements for endangered species, see 50 CFR 17.21 and 17.22.

Executive Order 13211

On May 18, 2001, the President issued an Executive Order (E.O. 13211) on regulations that significantly affect energy supply, distribution, and use. Executive Order 13211 requires agencies to prepare Statements of Energy Effects when undertaking certain actions. This rule is not expected to significantly affect energy supplies, distribution, or use. Therefore, this action is not a significant energy action and no Statement of Energy Effects is required.

References Cited

A complete list of references cited in the emergency rule to list the Columbia Basin distinct population segment of the pygmy rabbit as endangered, published concurrently in this issue of the Federal Register, is available upon request from the Upper Columbia Fish and Wildlife Office (see ADDRESSES section).

Author

The primary author of this proposed rule is Christopher Warren of the Upper Columbia Fish and Wildlife Office (see ADDRESSES section).

List of Subjects in 50 CFR Part 17

Endangered and threatened species, Exports, Imports, Reporting and recordkeeping requirements, Transportation.

Proposed Regulation Promulgation

For the reasons given in the preamble to the emergency rule listing the Columbia Basin distinct population segment of the pygmy rabbit as endangered, published concurrently in this issue of the Federal Register, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. In § 17.11(h), add the following to the List of Endangered and Threatened Wildlife in alphabetical order under MAMMALS:

§ 17.11 Endangered and threatened wildlife.

* * * * *

(h) * * *

Species: Common name | Species: Scientific name | Historic range | Vertebrate population where endangered or threatened | Status | When listed | Critical habitat | Special rules
Mammals
* * * * * * *
Rabbit, Columbia Basin pygmy | Brachylagus idahoensis | U.S.A. (Western conterminous States) | U.S.A. (WA—Douglas, Grant, Lincoln, Adams, Benton Counties) | E |  | NA | NA
* * * * * * *

Dated: November 21, 2001.
Marshall P. Jones, Jr.,
Acting Director, Fish and Wildlife Service.

[FR Doc. 01-29612 Filed 11-29-01; 8:45 am]

BILLING CODE 4310-55-P